DEPARTMENT OF TRANSPORTATION

Federal Aviation Administration

14 CFR Part 97

[Docket No. 30293; Amdt. No. 2091]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory sections are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPS, mailed once every 2 weeks, are for sale by the Superintendent of Documents, U.S. Government Printing Office, Washington, DC 20402.

FOR FURTHER INFORMATION CONTACT: Donald P. Pate, Flight Procedure Standards Branch (AMCAFS-420), Flight Technologies and Program Division, Flight Standards Service, Federal Aviation Administration, Mike Monroney Aeronautical Center, 6500 South MacArthur Blvd. Oklahoma City, OK 73169 (Mail Address: P.O. Box 25082 Oklahoma City, OK 73125) telephone: (405) 954-4162.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPS and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on February 1, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows;

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending:§ 97.23 VOR, VOR/DME, VOR or TACAN, and VOR/DME or TACAN;§ 97.25 LOC, LOC/DME, LDA, LDA/DME, SDF, SDF/DME;§ 97.27 NDB, NDB/DME;§ 97.29 ILS, ILS/DME, ISMLS, MLS, MLS/DME, MLS/RNAV;§ 97.31 RADAR SIAPs;§ 97.33 RNAV SIAPs; and § 97.35 COPTER SIAPs, identified as follows:

* * * Effective February 21, 2002

Minneapolis, MN, Minneapolis-St Paul Intl/ Wold Chamberlain, RNAV (GPS) Y RWY 12L, Orig

Minneapolis, MN, Minneapolis-St Paul Intl/ Wold Chamberlain, RNAV (GPS) Z RWY 12L, Orig

Minneapolis, MN, Minneapolis-St Paul Intl/ Wold Chamberlain, RNAV (GPS) Y RWY 12R, Orig

Minneapolis, MN, Minneapolis-St Paul Intl/ Wold Chamberlain, RNAV (GPS) Z RWY RWY 12R, Orig

Minneapolis, MN, Minneapolis-St Paul Intl/ Wold Chamberlain, RNAV (GPS) Y RWY 22, Orig

Minneapolis, MN, Minneapolis-St Paul Intl/ Wold Chamberlain, RNAV (GPS) Z RWY 22, Orig

Minneapolis, MN, Minneapolis-St Paul Intl/ Wold Chamberlain, RNAV (GPS) Y RWY 30L, Orig

Minneapolis, MN, Minneapolis-St Paul Intl/ Wold Chamberlain, RNAV (GPS) Z RWY 30L, Orig

Minneapolis, MN, Minneapolis-St Paul Intl/ Wold Chamberlain, RNAV (GPS) Y RWY 30R, Orig

Minneapolis, MN, Minneapolis-St Paul Intl/ Wold Chamberlain, RNAV (GPS) Z RWY 30R, Orig

Minneapolis, MN, Minneapolis-St Paul Intl/ Wold Chamberlain, NDB RWY 30L, Amdt 24A

Minneapolis, MN, Minneapolis-St Paul Intl/ Wold Chamberlain, NDB RWY 30R, Amdt 12A

Springfield, MO, Springfield-Branson Regional, ILS, RWY 14, Orig

Springfield, MO, Springfield-Branson Regional, RNAV (GPS) RWY 14, Orig

Springfield, MO, Springfield-Branson Regional, RNAV (GPS) RWY 32, Orig

Springfield, MO, Springfield-Branson Regional, VOR/DME RNAV OR GPS RWY 14, Amdt 4A, CANCELLED

Springfield, MO, Springfield-Branson Regional, VOR/DME OR TACAN RWY 2, Orig

Raleigh-Durham, NC, Raleigh-Durham International, ILS RWY 5L, Amdt 4

Raleigh-Durham, NC, Raleigh-Durham International, ILS RWY 5R, Amdt 26

Raleigh-Durham, NC, Raleigh-Durham International, ILS, RWY 23L, Amdt 6

Raleigh-Durham, NC, Raleigh-Durham International, ILS RWY 23R, Amdt 9

Raleigh-Durham, NC, Raleigh-Durham International, RNAV (GPS) RWY 5L, Orig

Raleigh-Durham, NC, Raleigh-Durham International, RNAV (GPS) RWY 5R, Orig

Raleigh-Durham, NC, Raleigh-Durham International, RNAV (GPS) RWY 23L, Orig

Raleigh-Durham, NC, Raleigh-Durham International, RNAV (GPS) RWY 23R, Orig

Raleigh-Durham, NC, Raleigh-Durham International, RNAV (GPS) RWY 32, Orig

Kanab, UT, Kanab Muni, RNAV (GPS) RWY 1, Orig

* * * Effective March 21, 2002

Warren, MN, Warren Muni, RNAV (GPS) RWY 30, Orig

Harrisburg, PA, Harrisburg Intl, VOR RWY 31, Amdt 1A

Lancaster, PA, Lancaster, VOR/DME RWY 8, Amdt 4A

* * * Effective April 18, 2002

Manila, AR, Manila Muni, RNAV (GPS) RWY 18, Orig

Manila, AR, Manila Muni, GPS RWY 18, Orig, CANCELLED

Morrilton, AR, Petit Jean Park, RNAV (GPS) RWY 3, Orig

Morrilton, AR, Petit Jean Park, GPS RWY 3, Orig-B, CANCELLED

Santa Maria, CA, Santa Maria Public/Captain G. Allen Hancock Field, VOR RWY 12, Amdt 14

Santa Maria, CA, Santa Maria Public/Captain G. Allen Hancock Field, RNAV (GPS) RWY 12, Orig

Willits, CA, Ells Field-Willits Muni, RNAV (GPS) RWY 16, Orig

Willits, CA, Ells Field-Willits Muni, RNAV (GPS) RWY 34, Orig

Middletown, DE, Summit, RNAV (GPS) RWY 17, Orig

Middletown, DE, Summit, VOR/DME RNAV RWY 35, Amdt 3B, CANCELLED

Weno Island, FM, Chuuk International, RNAV (GPS) RWY 4, Orig, CANCELLED

Weno Island, FM, Chuuk International, GPS RWY 4, Orig, CANCELELD

Bartow, FL, Bartow Muni, RNAV (GPS) RWY 9L, Orig

Bartow, FL, Bartow Muni, RNAV (GPS) RWY 27R, Orig

Bartow, FL, Bartow Muni, GPS RWY 27R, Orig, CANCELLED

Bartow, FL, Bartow Muni, GPS RWY 9L, Amdt 1, CANCELLED

Kaunakakai, HI, Molokai, RNAV (GPS)-B, Orig

Bloomfield, IA, Bloomfield, Muni, RNAV (GPS) RWY 36, Orig

Bloomfield, IA, Bloomfield, Muni, NDB RWY 36, Amdt 3

Eagle Grove, IA, Eagle Grove Muni, RNAV (GPS) RWY 31, Orig

Eagle Grove, IA, Eagle Grove Muni, GPS RWY 31, Orig, CANCELLED

Fort Dodge, IA, Fort Dodge Regional, RNAV (GPS) RWY 6, Orig

Fort Dodge, IA, Fort Dodge Regional, RNAV (GPS) RWY 24, Orig

Fort Dodge, IA, Fort Dodge Regional, VOR/DME RNAV OR GPS RWY 6, Amdt 6A CANCELLED

Fort Dodge, IA, Fort Dodge Regional, VOR/DME RNAV OR GPS RWY 24, Amdt 5B, CANCELLED

Manhattan, KS, Manhattan Regional, RNAV (GPS) RWY 3, Orig

Manhattan, KS, Manhattan Regional, RNAV (GPS) RWY 21, Orig

Manhattan, KS, Manhattan Regional, RNAV (GPS) RWY 31, Orig

Frenchville, ME, Northern Aroostook Regional, GPS RWY 32, Orig, CANCELLED

Battle Creek, MI, W.K. Kellogg, VOR OR TACAN RWY 5, Amdt 19A

Holland, MI, Tulip City, VOR/DME RNAV RWY 26, Amdt 5B

Bowling Green, MO, Bowling Green Muni, RNAV (GPS) RWY 13, Orig

Bowling Green, MO, Bowling Green Muni, RNAV (GPS) RWY 31, Orig

Bowling Green, MO, Bowling Green Muni, VOR/DME-A, Amdt 2

Cabool, MO, Cabool Memorial, RNAV (GPS) RWY 21, Orig

Cabool, MO, Cabool Memorial, GPS RWY 21, Orig, CANCELLED

Chillicothe, MO, Chillicothe Muni, RNAV (GPS) RWY 32, Orig

Chillicothe, MO, Chillicothe Muni, GPS RWY 32, Orig, CANCELLED

Mosby, MO, Clay County Regional, RNAV (GPS) RWY 36, Orig

Mosby, MO, Clay County Regional, GPS RWY 36, Orig, CANCELLED

Mosby, MO, Clay County Regional, NDB RWY 18, Amdt 1

Osage Beach, MO, Grand Glaize-Osage Beach, RNAV (GPS) RWY 14, Orig

Osage Beach, MO, Grand Glaize-Osage Beach, RNAV (GPS) RWY 32, Orig

Osage Beach, MO, Grand Glaize-Osage Beach, VOR RWY 32, Amdt 5

Bassett, NE, Rock County, RNAV (GPS) RWY 13, Orig

Bassett, NE, Rock County, RNAV (GPS) RWY 31, Orig

Bassett, NE, Rock County, NDB RWY 31, Amdt 3

Lincoln, NE, Lincoln Muni, RNAV (GPS) RWY 14, Orig

Lincoln, NE, Lincoln Muni, GPS RWY 14, Orig-A, CANCELLED

Manchester, NH, Manchester, NDB OR GPS RWY 35, Amdt 13B, CANCELLED

Manchester, NH, Manchester, ILS RWY 35, Amdt 20A, CANCELLED

Kutztown, PA, Kutztown, VOR-A, Amdt 1

Kutztown, PA, Kutztown, RNAV (GPS)-A, Orig

Kutztown, PA, Kutztown, GPS RWY 17, Amdt 1, CANCELLED

Sterling, PA, Spring Hill, RNAV (GPS)-A, Orig

Block Island, RI, Block Island State, NDB RWY 10, Amdt 4, CANCELLED

Henderson, TX, Rusk County, RNAV (GPS) RWY 16, Orig

Henderson, TX, Rusk County, GPS RWY 16, Orig, CANCELLED

Sulphur Springs, TX, Sulphur Springs Muni, RNAV (GPS) RWY 36, Orig

Sulphur Springs, TX, Sulphur Springs Muni, GPS RWY 36, Orig, CANCELLED

[FR Doc. 02-3242 Filed 2-8-02; 8:45 am]

BILLING CODE 4910-13-M